DEPARTMENT OF TRANSPORTATION

Federal Aviation Administration

14 CFR Part 39

[Docket No. FAA-2025-2265; Project Identifier MCAI-2024-00714-A; Amendment 39-23224; AD 2025-26-02]

RIN 2120-AA64

Airworthiness Directives; DAHER AEROSPACE (Type Certificate Previously Held by SOCATA) Airplanes

AGENCY: Federal Aviation Administration (FAA), DOT.

ACTION: Final rule.

SUMMARY: The FAA is superseding Airworthiness Directive (AD) 2007-06-11 (AD 2007-06-11) for certain SOCATA (type certificate now held by DAHER AEROSPACE) Model TBM 700 airplanes. AD 2007-06-11 required repetitively inspecting the vertical stabilizer attachment fittings and bolts for cracks or corrosion, and, if necessary, repairing or replacing the damaged part and then applying a corrosion protection reinforcement. Since the FAA issued AD 2007-06-11, the European Union Aviation Safety Agency (EASA), which is the Technical Agent for the Member States of the European Union, superseded the previous Direction generale de l'aviation civile (DGAC) France AD to introduce new service information providing instructions for installing new vertical stabilizer attachment fittings having improved corrosion resistant material as an optional terminating action for the repetitive inspections. This AD retains the requirements of AD 2007-06-11 and includes a new optional terminating action for the repetitive inspections. The FAA is issuing this AD to address the unsafe condition on these products.

DATES: This AD is effective February 12, 2026.

The Director of the Federal Register approved the incorporation by reference of certain publications listed in this AD as of February 12, 2026.

The Director of the Federal Register approved the incorporation by reference of certain other publications listed in this AD as of April 20, 2007 (72 FR 12546, dated March 16, 2007).

ADDRESSES:

AD Docket: You may examine the AD docket at regulations.gov under Docket No. FAA-2025-2265; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For DAHER AEROSPACE and EADS SOCATA material identified in this AD, contact DAHER AEROSPACE, Customer Support, Airplane Division, 65921 Tarbes Cedex 9, France; phone: 33 (0)5 62.41.73.00; email: tbmcare@daher.com; website: daher.com.

• You may view this service information at the FAA, Airworthiness Products Section, Operational Safety Branch, 901 Locust, Kansas City, MO 64106. For information on the availability of this material at the FAA, call (817) 222-5110. It is also available at regulations.gov under Docket No. FAA-2025-2265.

FOR FURTHER INFORMATION CONTACT: Hye Yoon Jang, Aviation Safety Engineer, FAA, 1600 Stewart Avenue, Suite 410, Westbury, NY 11590; phone: (206) 231-3758; email: hye.yoon.jang@faa.gov.

SUPPLEMENTARY INFORMATION:

Background

The FAA issued a notice of proposed rulemaking (NPRM) to amend 14 CFR part 39 to supersede AD 2007-06-11, Amendment 39-14992 (AD 2007-06-11, March 16, 2007) (AD 2007-06-11). AD 2007-06-11 applied to certain serial-numbered SOCATA (type certificate now held by DAHER AEROSPACE) Model TBM 700 airplanes. AD 2007-06-11 required repetitively inspecting the vertical stabilizer attachment fittings and bolts for cracks or corrosion, and, if necessary, repairing or replacing the damaged part and then applying a corrosion protection reinforcement. The FAA issued AD 2007-06-11 to detect and address cracks on the vertical stabilizer attachment fitting which, if not addressed, could result in reduced structural integrity of the vertical stabilizer.

The NPRM was published in the Federal Register on August 25, 2025 (90 FR 41350). The NPRM was prompted by EASA AD 2019-0070, dated March 28, 2019 (also referred to as the MCAI). The MCAI states that cracks were found on a vertical stabilizer attachment fitting on a Model TBM 700 airplane in service. Investigation results showed that these cracks were due to corrosion. This unsafe condition could result in reduced structural integrity of the vertical stabilizer.

In the NPRM, the FAA proposed to retain the requirements of AD 2007-06-11 and provide a new optional terminating action for the repetitive inspections by replacing each affected part with a new zero-time vertical stabilizer attachment fitting made from improved corrosion resistant material.

The NPRM stated the incorrect date of April 10, 2007, for the effective date of AD 2007-06-11. The correct effective date is April 20, 2007. The FAA has corrected the date in paragraph (h)(1) of this final rule.

You may examine the MCAI in the AD docket at regulations.gov under Docket No. FAA-2025-2265.

Discussion of Final Airworthiness Directive

Comments

The FAA received comments from eight anonymous commenters. The comments were unrelated to the subject matter of the NPRM.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EADS SOCATA TBM Aircraft Mandatory Service Bulletin No. SB 70-104, Amendment 3, dated December 2007. This material specifies procedures for inspecting the vertical stabilizer attachment fittings for crack(s) and corrosion, repairing or replacing any damaged part, and applying corrosion protection reinforcement on the attachment fittings.

The FAA also reviewed DAHER Aerospace TBM Aircraft Mandatory Service Bulletin No. SB 70-104, Revision 4, dated December 2018. This material specifies procedures for inspecting the vertical stabilizer attachment fittings for crack(s) and corrosion, repairing or replacing any damaged part, and applying corrosion protection on the attachment fittings.

In addition, the FAA reviewed DAHER AEROSPACE TBM Aircraft Recommended Service Bulletin SB 70-255, dated December 2018. This material specifies procedures for modifying the vertical stabilizer and fuselage by installing new front and rear fittings.

This AD also requires EADS SOCATA TBM Aircraft Mandatory Service Bulletin No. SB 70-104, Amendment 1, dated August 2004, and EADS SOCATA TBM Aircraft Mandatory Service Bulletin No. SB 70-104, Amendment 2, dated January 2007, which the Director of the Federal Register approved for incorporation by reference as of April 20, 2007 (72 FR 12546, dated March 16, 2007).

This material is reasonably available because the interested parties have access to it through their normal course of business or by the means identified in the ADDRESSES section.

Costs of Compliance

The FAA estimates that this AD affects 309 airplanes of U.S. registry.

The FAA estimates the following costs to comply with this AD:

Estimated Costs
Action | Labor cost | Parts cost | Cost per product | Cost on U.S. operators
Inspect vertical stabilizer attachment fittings | 4 work-hours × $85 per hour = $340 (per inspection cycle) | $0 | $340 (per inspection cycle) | $105,060 (per inspection cycle).

The FAA estimates the following costs to do any necessary replacements that would be required based on the results of the inspections. The agency has no way of determining the number of airplanes that might need these replacements.

Either the replacement of the vertical stabilizer attachment fittings or the installation of improved design vertical stabilizer attachment fittings, as presented below, can be done if required based any inspection in this AD. If the improved design fittings are installed, then the repetitive inspections are terminated.

On-Condition Costs
Action | Labor cost | Parts cost | Cost per product
Replace vertical stabilizer attachment fittings | 10 work-hours × $85 per hour = $850 | $5,000 | $5,850
Install (new) design vertical stabilizer attachment fittings (optional terminating action) | 10 work-hours × $85 per hour = $850 | 5,000 | 5,850

The FAA has no way of determining the costs pertaining to necessary repairs that would be required in accordance with a method approved by the FAA, EASA, or Daher's EASA Designated Organization Approval.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive AD 2007-06-11, Amendment 39-14992 (72 FR 12546, March 16, 2007); and

b. Adding the following new airworthiness directive:

2025-26-02 DAHER AEROSPACE (Type Certificate previously held by SOCATA): Amendment 39-23224; Docket No. FAA-2025-2265; Project Identifier MCAI-2024-00714-A.

(a) Effective Date

This airworthiness directive (AD) is effective February 12, 2026.

(b) Affected ADs

This AD replaces AD 2007-06-11, Amendment 39-14992 (72 FR 12546, March 16, 2007) (AD 2007-06-11).

(c) Applicability

This AD applies to DAHER AEROSPACE (type certificate previously held by SOCATA) Model TBM 700 airplanes, manufacturer serial numbers 001 through 308 and 310, certificated in any category.

(d) Subject

Joint Aircraft System Component (JASC) Code 5530, Vertical Stabilizer Structure.

(e) Unsafe Condition

This AD was prompted by reports of cracks due to corrosion on a vertical stabilizer attachment fitting. The FAA is issuing this AD to detect and address cracks on the vertical stabilizer attachment fitting. The unsafe condition, if not addressed, could result in reduced structural integrity of the vertical stabilizer.

(f) Definitions

For the purpose of this AD, the following definitions apply:

(1) Affected Part: Vertical stabilizer attachment fitting having part number (P/N) T700A5530072101, T700A5530073000, T700A5340023100, T700A5340052100, or T700A5530072100.

(2) New Part: A new zero-time vertical stabilizer attachment fitting having P/N T700A553007300151, T700A553007210251, T700A534009810000, or T700A534009910000.

(g) Compliance

Comply with this AD within the compliance times specified, unless already done.

(h) Retained Actions From AD 2007-06-11 With Reference to New Service Bulletins and Before Further Flight Compliance Time Added to Corrective Action

(1) Within the next 600 hours time-in-service (TIS) or the next 12 months, whichever occurs first after April 20, 2007 (the effective date of AD 2007-06-11), inspect the affected part as defined in paragraph (f)(1) of this AD, and the affected part bolts, for cracks or corrosion, and, if necessary, before further flight, repair or replace the damaged affected part and then apply a corrosion protection reinforcement, in accordance with EADS SOCATA TBM Aircraft Mandatory Service Bulletin No. SB 70-104, Amendment 1, dated August 2004; EADS SOCATA TBM Aircraft Mandatory Service Bulletin No. SB 70-104, Amendment 2, dated January 2007; EADS SOCATA TBM Aircraft Mandatory Service Bulletin No. SB 70-104, Amendment 3, dated December 2007; or DAHER Aerospace TBM Aircraft Mandatory Service Bulletin No. SB 70-104, Revision 4, dated December 2018. Where the material above states to send the damaged parts to Socata and send photos or drawings if exfoliation is detected, this AD does not require these actions.

(2) Repeat the actions required by paragraph (h)(1) of this AD at intervals not to exceed 1,200 hour TIS or 24 months, whichever occurs first, in accordance with EADS SOCATA Service Bulletin SB 70-104, Amendment 1, dated August 2004; EADS SOCATA TBM Aircraft Mandatory Service Bulletin SB 70-104, Amendment 2, dated January 2007; EADS SOCATA TBM Aircraft Mandatory Service Bulletin No. SB 70-104, Amendment 3, dated December 2007; or DAHER Aerospace TBM Aircraft Mandatory Service Bulletin No. SB 70-104, Revision 4, dated December 2018.

(i) New Optional Terminating Action

Modification of an airplane by replacing each affected part as defined in paragraph (f)(1) of this AD with a new part as defined in paragraph (f)(2) of this AD, in accordance with paragraphs A. and B. of the Description of Accomplishment Instructions in DAHER AEROSPACE TBM Aircraft Recommended Service Bulletin SB 70-255, dated December 2018, constitutes terminating action for the repetitive detailed inspections required by paragraph (h)(2) of this AD for that airplane.

Note 1 to paragraph (i): European Union Aviation Safety Agency AD 2019-0070, dated March 28, 2019, refers to this new part as a serviceable part and DAHER AEROSPACE TBM Aircraft Recommended Service Bulletin SB 70-255, dated December 2018, refers to this part as a new fitting.

(j) Installation Prohibition

After modification of an airplane as specified in paragraph (i) of this AD, do not install on that airplane an affected part or a vertical stabilizer equipped with an affected part.

(k) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD and email to: AMOC@faa.gov. Before using any approved AMOC, notify your appropriate principal inspector, or lacking a principal inspector, the manager of the local Flight Standards District Office/certificate holding district office.

(l) Additional Information

For more information about this AD, contact Hye Yoon Jang, Aviation Safety Engineer, FAA, 1600 Stewart Avenue, Suite 410, Westbury, NY 11590; phone: (206) 231-3758; email: hye.yoon.jang@faa.gov.

(m) Material Incorporated by Reference

(1) The Director of the Federal Register approved the incorporation by reference (IBR) of the material listed in this paragraph under 5 U.S.C. 552(a) and 1 CFR part 51.

(2) You must use this material as applicable to do the actions required by this AD, unless the AD specifies otherwise.

(3) The following material was approved for IBR on February 12, 2026.

(i) EADS SOCATA TBM Aircraft Mandatory Service Bulletin No. SB 70-104, Amendment 3, dated December 2007.

(ii) DAHER AEROSPACE TBM Aircraft Mandatory Service Bulletin No. SB 70-104, Revision 4, dated December 2018.

(iii) DAHER AEROSPACE TBM Aircraft Recommended Service Bulletin SB 70-255, dated December 2018.

(4) The following material was approved for IBR on April 20, 2007 (72 FR 12546, dated March 16, 2007).

(i) EADS SOCATA TBM Aircraft Mandatory Service Bulletin No. SB 70-104, Amendment 1, dated August 2004.

(ii) EADS SOCATA TBM Aircraft Mandatory Service Bulletin No. SB 70-104, Amendment 2, dated January 2007.

(5) For DAHER AEROSPACE and EADS SOCATA material identified in this AD, contact DAHER AEROSPACE, Customer Support, Airplane Division, 65921 Tarbes Cedex 9, France; phone: 33 (0)5 62.41.73.00; email: tbmcare@daher.com; website: daher.com.

(6) You may view this service information at the FAA, Airworthiness Products Section, Operational Safety Branch, 901 Locust, Kansas City, MO 64106. For information on the availability of this material at the FAA, call (817) 222-5110.

(7) You may view this material at the National Archives and Records Administration (NARA). For information on the availability of this material at NARA, visit www.archives.gov/federal-register/cfr/ibr-locations or email fr.inspection@nara.gov.

Issued on January 6, 2026.
Paul R. Bernado,
Acting Director, Compliance & Airworthiness Division, Aircraft Certification Service.

[FR Doc. 2026-00162 Filed 1-7-26; 8:45 am]

BILLING CODE 4910-13-P